NATIONAL ARCHIVES AND RECORDS ADMINISTRATION

36 CFR Part 1254

RIN 3095-AB14

Researcher Identification Cards

AGENCY: National Archives and Records Administration (NARA).

ACTION: Proposed rule.

SUMMARY: NARA is proposing to revise the general regulations concerning availability of records and donated historical materials to change the time period researcher identification cards are valid. NARA proposes to reduce the valid time period to increase NARA's ability to obtain accurate address and telephone information. This will allow NARA to contact researchers if necessary and will ensure better protection of NARA's holdings, buildings, personnel, and the public. This proposed rule will affect individuals who do research in archival materials at NARA facilities.

DATES: Comments are due by September 9, 2002.

ADDRESSES: Comments must be sent to Regulation Comment Desk (NPOL), Room 4100, Policy and Communications Staff, National Archives and Records Administration, 8601 Adelphi Road, College Park, MD 20740-6001. They may be faxed to 301-837-0319. You may also comment via the Internet to comments@nara.gov.

FOR FURTHER INFORMATION CONTACT: Jennifer Davis Heaps on 301-837-1801 or fax 301-837-0319, or comments@nara.gov.

SUPPLEMENTARY INFORMATION: Individuals who conduct research in original archival materials at NARA facilities must complete a researcher application form in person and be issued a researcher identification card. The current time period that these cards are valid is three years. Many of NARA's researchers are short-time visitors to one or more of its facilities. Over 90 percent of the respondents complete the application on a one-time basis for a specific research project. NARA proposes to reduce the valid time period to one year to increase NARA's ability to contact researchers if necessary and to ensure better protection of NARA's holdings, buildings, personnel, and the public. The information collection in § 1254.6, researcher identification application form, is subject to the Paperwork Reduction Act. The Office of Management and Budget (OMB) has assigned 3095-0016 as the control number for this information collection.

Please submit Internet comments within the body of your email message or as an attachment. Please also include “Attn: 3095-AB14” and your name and return address in your Internet message. If you do not receive notification that we have received your Internet message, contact the Regulation Comment Desk at 301-837-1801.

This proposed rule is not a significant regulatory action for the purposes of Executive Order 12866 and has not been reviewed by the Office of Management and Budget. As required by the Regulatory Flexibility Act, I certify that this proposed rule will not have a significant impact on a substantial number of small entities because it applies only to individuals. This proposed rule has no federalism or tribalism implications.

List of Subjects in 36 CFR Part 1254

Archives and records, Confidential business information, Freedom of information, Micrographics.

For the reasons set forth in the preamble, NARA proposes to amend part 1254 of title 36 of the CFR as follows:

PART 1254—AVAILABILITY OF RECORDS AND DONATED HISTORICAL MATERIALS

1. The authority citation for part 1254 continues to read as follows:

Authority: 44 U.S.C. 2101-2118; 5 U.S.C. 552; and E.O. 12600, 52 FR 23781, 3 CFR, 1987 Comp., p. 235.

2. Revise § 1254.6(a) to read as follows:

§ 1254.6 Researcher identification card.

(a) An identification card is issued to each person whose application is approved to use records other than microfilm. Cards are valid for 1 year and may be renewed upon application. Cards issued at one NARA facility are valid at each facility, except as described in paragraph (b) of this section. They are not transferable and must be presented if requested by a guard or research room attendant.

* * * * *

Dated: July 1, 2002.
John W. Carlin,
Archivist of the United States.

[FR Doc. 02-17291 Filed 7-9-02; 8:45 am]

BILLING CODE 7515-01-P